SMALL BUSINESS ADMINISTRATION

[Declaration of Disaster #3462]

State of Tennessee

As a result of the President's major disaster declaration on November 13, 2002, I find that Anderson, Bedford, Carroll, Coffee, Crockett, Cumberland, Gibson, Henderson, Madison, Marshall, Montgomery, Morgan, Rutherford, Scott, Sumner and Tipton Counties in the State of Tennessee constitute a disaster area due to damages caused by severe storms, tornadoes and flooding occurring on November 9 through November 12, 2002. Applications for loans for physical damage as a result of this disaster may be filed until the close of business on January 13, 2003 and for economic injury until the close of business on August 13, 2003 at the address listed below or other locally announced locations:

U.S. Small Business Administration, Disaster Area 2 Office, One Baltimore Place, Suite 300, Atlanta, GA 30308.

In addition, applications for economic injury loans from small businesses located in the following contiguous counties may be filed until the specified date at the above location: Benton, Bledsoe, Campbell, Cannon, Cheatham, Chester, Davidson, Decatur, Dickson, Dyer, Fayette, Fentress, Franklin, Giles, Grundy, Hardeman, Hardin, Haywood, Henry, Houston, Knox, Lauderdale, Lincoln, Loudon, Macon, Maury, Moore, Obion, Pickett, Putnam, Roane, Robertson, Rhea, Shelby, Stewart, Trousdale, Union, Van Buren, Warren, Weakley, White, Williamson and Wilson in the State of Tennessee; Crittenden and Mississippi counties in the State of Arkansas; Allen, Christian, McCreary, Simpson, Todd, Wayne and Whitley counties in the State of Kentucky.

The interest rates are:

| Percent
For Physical Damage:
Homeowners with credit available elsewhere | 5.875
Homeowners without credit available elsewhere | 2.937
Businesses with credit available elsewhere | 6.648
Businesses and non-profit organizations without credit available elsewhere | 3.324
Others (including non-profit organizations) with credit available elsewhere | 5.500
For Economic Injury:
Businesses and small agricultural cooperatives without credit available elsewhere | 3.324

The number assigned to this disaster for physical damage is 346212. For economic injury the number is 9S5200 for Tennessee; 9S5300 for Arkansas; and 9S5400 for Kentucky.

(Catalog of Federal Domestic Assistance Program Nos. 59002 and 59008)
Dated: November 15, 2002.
S. George Camp,
Acting Associate Administrator for Disaster Assistance.

[FR Doc. 02-29649 Filed 11-20-02; 8:45 am]

BILLING CODE 8025-01-P